SECURITIES AND EXCHANGE COMMISSION

[Release No. 34-76198A; File No. SR-NYSEARCA-2015-58]

Self-Regulatory Organizations; NYSE Arca, Inc.; Notice of Filing of Amendment No. 1 and Order Granting Accelerated Approval to a Proposed Rule Change, as Modified by Amendment No. 1, Adopting New Equity Trading Rules Relating to Trading Halts, Short Sales, Limit Up-Limit Down, and Odd Lots and Mixed Lots to Reflect the Implementation of Pillar, the Exchange's New Trading Technology Platform; Correction

October 28, 2015.

AGENCY: Securities and Exchange Commission.

ACTION: Notice; correction.

SUMMARY: The Securities and Exchange Commission published a document in the Federal Register on October 26, 2015, concerning a Notice of Filing of Amendment No. 1 and Order Granting Accelerated Approval to a Proposed Rule Change, as Modified by Amendment No. 1, Adopting New Equity Trading Rules Relating to Trading Halts, Short Sales, Limit Up-Limit Down, and Odd Lots and Mixed Lots to Reflect the Implementation of Pillar, the Exchange's New Trading Technology Platform. The document contained typographical errors.

FOR FURTHER INFORMATION CONTACT: Sonia Trocchio, Division of Trading and Markets, Securities and Exchange Commission, 100 F Street NE., Washington, DC 20549, (202) 551-5648.

Correction

In the Federal Register of October 26, 2015 in FR Doc. 2015-27069, on page 65274, subsection (iii) of footnote 5, change the text, “amend proposed Rule 7.16P(f)(5)(C) to clarify that the Exchange would treat all odd lot orders ranked Priority 2—Display Orders in the same manner as Market Orders and other non-displayed orders,” to the text, “remove references to odd lot orders in proposed Rule 7.16P(f)(5)”. On page 65276, in the 4th sentence of paragraph 3, remove the following language: “of odd-lot orders that are ranked Priority 2,”. On page 65277, in the 1st sentence of the first full paragraph, change the text, “amends proposed Rule 7.16P(f)(5)(C) to clarify that the Exchange would treat all odd lot orders ranked Priority 2—Display Orders in the same manner as Market Orders and other non-displayed orders,” to the text, “remove references to odd lot orders in proposed Rule 7.16P(f)(5)”

Robert W. Errett,
Deputy Secretary.

[FR Doc. 2015-27877 Filed 11-2-15; 8:45 am]

BILLING CODE 8011-01-P